TENNESSEE VALLEY AUTHORITY

Sunshine Act Meeting

Agency Holding the Meeting: Tennessee Valley Authority (Meeting No. 1524).

Time and Date: 9 a.m. (CDT), October 25, 2000.

Place: J.R.'s Executive Inn, International Room D, One Executive Boulevard, Paducah, Kentucky.

Status: Open.

Agenda

Approval of minutes of meeting held on September 27, 2000.

New Business

B—Purchase Award

B1. Contract with EyeMed Vision Care for vision care services.

C—Energy

C1. Contract with Haverfield Corporation for helicopter services to support transmission line construction and maintenance activities for Transmission/Power Supply Group.

C2. Contract with Hubbell Power Systems for transmission line components for Transmission/Power Supply Group.

C3. Supplement to contract with S&C Electric Company for circuit switchers and interrupter switches for Transmission/Power Supply Group.

C4. Contract with Coastal Equipment Incorporated for lease/purchase of a Manitowoc 21000 crane in support of selective catalytic reduction installation at Allen and Cumberland Fossil Plants.

E—Real Property Transactions

E1. Abandonment of certain easement rights and modification of a restrictive covenant that prohibits any buildings or other structures on a 0.14-acre portion of Tract No. SH-701F on South Holston Reservoir in Washington County, Virginia.

E2. Grant of a permanent easement to the City of Lexington, Tennessee, affecting approximately 0.21 acre of land on Beech River Reservoir in Henderson County, Tennessee, Tract No. XTBRBR-3WP.

E3. Abandonment of easement rights affecting approximately 2.27 acres of the Murfreesboro-Smyrna No. 2 transmission line easement. Tract No. MLE-8, to accommodate expansion of The World Outreach Church of Murfreesboro, Rutherford County, Tennessee.

F—Unclassified

1. Approval to file condemnation cases to acquire permanent easements and rights-of-way for transmission lines and a temporary right to enter upon properties to survey and appraise for electric power transmission lines at the Murfreesboro-Smyrna No. 2 transmission line in Rutherford County, Tennessee; Madison West-South Jackson transmission line in Madison County, Tennessee, and Rock Springs-Center Point transmission line and West Ringgold-Center Point transmission line in Whitfield County, Georgia.

Information Items

1. Modification of a contract with Thunder Basin Coal Company, LLC, for coal supply to Allen, Gallatin, Paradise, Johnsonville, Colbert, and Shawnee Fossil Plants.

2. Approval of negotiated pay adjustments for Fiscal Year 2001 and 2002 and other collective bargaining provisions covering TVA police employees represented by the Law Enforcement Employees Association.

3. Approval of negotiated pay adjustments for Fiscal Years 2001 and 2002 for custodial employees represented by Local 544, Service Employees' International Union, AFL-CIO.

4. Approval of Performance Success Award for Fiscal Year 2000.

5. Approval of increase in contribution for certain retirees and dependents who are eligible for a contribution under the TVA Retiree Medical Contribution Plan.

6. Approval of amendments to the Rules and Regulations of the TVA Retirement System to provide an additional monthly benefit for retirees eligible to receive the System's supplemental benefit, make the additional benefit available to certain pre-1999 TVA retirees who are ineligible for the System's supplemental benefit, and remove the existing prohibition on purchasing creditable service for certain active day military service if the retiree is also eligible for a military pension based on that service.

7. Approval of TVA's contribution to the TVA Retirement System of 0 percent for Fiscal Year 2001.

8. Approval of excluded schedule compensation philosophy, strategy, and market pricing and pay banding plan.

For more information: Please call TVA Public Relations at (865) 632-6000, Knoxville, Tennessee. Information is also available at TVA's Washington Office (202) 898-2999. People who plan to attend the meeting and have special needs should call (865) 632-6000.

Dated: October 18, 2000.
Edward S. Christenbury,
General Counsel and Secretary.

[FR Doc. 00-27224 Filed 10-19-00; 10:54 am]

BILLING CODE 8120-08-M